DEPARTMENT OF ENERGY

Federal Energy Regulatory Commission

[Docket No. PF03-3-000]

Williston Basin Interstate Pipeline Company; Notice of Intent To Prepare an Environmental Assessment for the Proposed Grasslands Expansion Project and Request for Comments on Environmental Issues

October 8, 2003.

The Federal Energy Regulatory Commission's (FERC or Commission) staff will prepare an environmental assessment (EA) on Williston Basin Interstate Pipeline Company's (Williston Basin) proposed Grasslands Expansion Project in Wyoming, Montana, and North Dakota. This notice announces the opening of the scoping process we¹ will use to gather input from the public and interested agencies on the project. Your input will help us determine which issues need to be addressed in the EA. Details on how to submit written comments are provided in the public participation section of this notice. Please note that the scoping period will close on November 24, 2003.

¹ “We”, “us” and “our”, refer to the environmental staff of the Office of Energy Projects.

We are sending this notice to potentially-affected landowners whose properties are within an approximate 1-mile radius of the project locations; Federal, state, and local government agencies; elected officials; environmental and public interest groups; Native American tribes; and local libraries and newspapers. We are asking state and local government representatives to notify their constituents of this planned action and encourage them to comment on their areas of concern.

Summary of the Proposed Project

Williston Basin states that the Grasslands Expansion Project would allow transportation of an additional 120 million cubic feet per day (mmcf/d) to the Northern Border Pipeline on the Grasslands Pipeline. This would increase the capacity of the Grasslands Pipeline to 200 mmcf/d. The Grasslands Pipeline (Docket Nos. CP02-37-000, 002, and 003) was originally designed to transport 80 mmcf/d.

The project facilities include:

• construction of up to three new compressor stations; one each in Campbell County, Wyoming; Carter County, Montana; and Golden Valley County, North Dakota; and

• installation of additional compression at the existing Manning Compressor Station in Dunn County, North Dakota.

Construction and operation of the planned compressor stations would require a total of about 30 acres. Construction at the existing Manning Compressor Station would occur on the existing site. A general location map of the project facilities is shown in Appendix 1.²

² The appendices referenced in this notice are not being printed in the Federal Register. Copies of all appendices are available on the Commission's Web site (http://www.ferc.gov) at the “eLibrary” link or from the Commission's Public Reference and Files Maintenance Branch, 888 First Street, NE., Washington, DC 20426, or call at (202) 502-8371. For instructions on connecting to eLibrary refer to the last page of this notice. Copies of the appendices were sent to all those receiving this notice in the mail.

Williston Basin also plans to construct additional facilities in Fallon County, Montana that are associated with the Grasslands Expansion Project, but are not under the jurisdiction of the Commission. These non-jurisdictional facilities, which include a supply lateral, gathering lines, and well field compression, would help alleviate transmission constraints and provide needed capacity for future production increases out of the Baker Production Area.

Williston Basin plans to construct this project in 2004, with the goal of placing it in-service by November 1, 2004, if the project is fully subscribed by the time they make application with the Commission (tentatively November 1, 2003). If not fully subscribed at the time of application, Williston Basin has stated that they may propose to phase its construction schedule of the various facilities over more than 1 year.

The EA Process

The Commission will be the lead Federal agency for this EA process which is being conducted to satisfy the requirements of the National Environmental Policy Act (NEPA). The Commission will use the EA to consider the environmental impacts that could result if it issues Williston Basin a Certificate of Public Convenience and Necessity for its proposed project.

This notice formally announces our preparation of the EA and the beginning of the process referred to as “scoping.” We are soliciting input from the public and interested agencies to help us focus the analysis in the EA on the potentially significant environmental issues related to the proposed action. All comments received will be considered during the preparation of the EA which will include our independent analysis of the identified issues.

Depending on the comments received during the scoping process, the EA may be published and mailed to Federal, state, and local agencies, public interest groups, interested individuals, affected landowners, newspapers, libraries, and the Commission's official service list for this proceeding. A comment period will be allotted for review if the EA is published. We will consider all timely comments on the EA before we make our recommendations to the Commission.

Although Williston Basin has not filed a formal certificate application yet, we are initiating our review under the NEPA Pre-filing Process. The purpose of the FERC's NEPA Pre-filing Process is to: (1) Establish a framework for constructive discussion between the project proponents, potentially affected landowners, agencies, and the Commission staff; (2) encourage the early involvement of interested stakeholders to identify issues and study needs; and (3) attempt to resolve issues early, before an application is filed with the FERC.

A docket number (PF03-3-000) has been established to place information filed by Williston Basin, and related documents issued by the Commission, in the public record.³ When Williston Basin files an application, it will be assigned a “CP docket” number, and all information filed under Docket No. PF03-3-000 will become part of the record for the “CP docket.”

³ To view information in the docket, follow the instructions for using the eLibrary link at the end of this notice.

With this notice, we are asking other Federal, state, local, and tribal agencies with jurisdiction and/or special expertise with respect to the environmental issues to formally cooperate with us in the preparation of the EA. These agencies may choose to participate once they have evaluated the proposal relative to their responsibilities. Agencies, which would like to request cooperating status, should follow the instructions for filing comments described later in this notice.

If you are an affected property owner receiving this letter, a Williston Basin representative may contact you about the acquisition of an easement to construct, operate, and maintain the planned facilities. You may have already been contacted by Williston Basin about the Grasslands Expansion Project, or may have attended the open houses sponsored by Williston Basin in early August 2003. A fact sheet has been prepared by the FERC entitled “An Interstate Natural Gas Facility On My Land? What Do I Need To Know?” This fact sheet addresses a number of typically asked questions, including the use of eminent domain and how to participate in the Commission's proceedings. It is available for viewing on the FERC Internet Web site (http://www.ferc.gov).

Public Participation

You can make a difference by providing us with your specific comments or concerns about the project. Please focus your comments on the potential environmental effects, reasonable alternatives (including alternative locations), and measures to avoid or lessen environmental impact. The more specific your comments, the more useful they will be. To ensure that your comments are timely and properly recorded, please mail your comments so they will be received in Washington, DC on or before November 24, 2003, and carefully follow these instructions:

• Send an original and two copies of your letter to: Magalie R. Salas, Secretary, Federal Energy Regulatory Commission, 888 First St., NE., Room 1A, Washington, DC 20426;

• Label one copy of the comments for the attention of Gas Branch 1, DG2E; and

• Reference Docket No. PF03-3-000 on the original and both copies.

The Commission strongly encourages you to file your comments electronically via the Internet, in lieu of paper. See 18 CFR 385.2001(a)(1)(iii) and the instructions on the Commission's Web site at http://www.ferc.gov under the “e-Filing” link and the link to the User's Guide. Before you can file comments you will need to create a free account by clicking on “Login to File” and then “New User Account.” You will be asked to select the type of filing you are making. This filing is considered a “Comment on Filing.”

Additional Information

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at FERCOnlineSupport@ferc.gov. The eLibrary link on the FERC Internet website also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Williston Basin has initiated public participation to provide a means of communication with participating stakeholders and has held three open houses near the proposed compressor station locations. To facilitate the communication effort, it has provided a single point of contact for the Grasslands Expansion Project in Mr. Keith Tiggelaar, Director of Regulatory Affairs, at 1-701-530-1560, e-mail keith.tiggelaar@wbip.com. Additionally, Williston Basin will update its Grasslands Pipeline Web site (www.grasslandspipeline.com) to include information on the Grasslands Expansion Project. If you have any further questions for Williston Basin regarding its planned project, we encourage you to contact their representatives to answer your questions and address your concerns.

Finally, any public meetings or site visits will be posted on the Commission(s calendar located at http://www.ferc.gov/EventCalendar/EventsList.aspx along with other related information.

Magalie R. Salas,
Secretary.

[FR Doc. E3-00051 Filed 10-15-03; 8:45 am]

BILLING CODE 6717-01-P